DEPARTMENT OF COMMERCE

National Oceanic and Atmospheric Administration

Evaluation of the Georgia Coastal Management Program; Notice of Public Meeting; Request for Comments

AGENCY: Office for Coastal Management, National Ocean Service, National Oceanic and Atmospheric Administration, Department of Commerce.

ACTION: Notice of public meeting; opportunity to comment.

SUMMARY: The National Oceanic and Atmospheric Administration's (NOAA) Office for Coastal Management will hold a virtual public meeting to solicit input on the performance evaluation of the Georgia Coastal Management Program. NOAA also invites the public to submit written comments.

DATES: NOAA will hold a virtual public meeting at 5:30 p.m. Eastern Time (ET) on Wednesday, March 25, 2026. NOAA may close the meeting 10 minutes after the conclusion of public testimony and after responding to any clarifying questions from hearing participants. NOAA will consider all relevant written comments received by Friday, April 3, 2026.

Comments may be submitted:

• Virtually at the Public Meeting: Provide oral comments during the public meeting on Wednesday, March 25, 2026 at 5:30 p.m. ET by registering as a speaker at https://forms.gle/6GZKzaVmQEHeaAQc9. Please register by Tuesday, March 24, 2026, at 5 p.m. ET. Upon registration, NOAA will send a confirmation email. The virtual speaker lineup is based on the date and time of registration. At least one hour prior to the start of the March 25, 2026 public meeting, NOAA will send an email to all registrants with a link to the public meeting and information about participating. While advance registration is requested, registration will remain open until the meeting closes, and any participant may provide oral comment after the registered speakers conclude. Meeting registrants may remain anonymous by typing “Anonymous” in the “First Name” and “Last Name” fields on the registration form.

• Email: Send written comments to Michael Migliori, evaluator, NOAA Office for Coastal Management, at czma.evaluations@noaa.gov. Include “Comments on Performance Evaluation of the Georgia Coastal Management Program” in the subject line. NOAA will accept anonymous comments; however, all comments NOAA receives are a part of the public record, and the entirety of the comment, including the name of the commenter, email address, attachments, and other supporting materials, will be publicly accessible. Do not submit confidential business information or otherwise sensitive or personally identifiable information, such as account numbers and Social Security numbers. Comments that are not related to the performance evaluation of the Georgia Coastal Management Program or that contain profanity, vulgarity, threats, or other inappropriate language will not be considered.

FOR FURTHER INFORMATION CONTACT: Michael Migliori, Evaluator, NOAA Office for Coastal Management, by email at Michael.Migliori@noaa.gov or by phone at (443) 332-8936. Copies of the previous evaluation findings may be viewed and downloaded at https://coast.noaa.gov/czm/evaluations. A copy of the evaluation notification letter and most recent progress report may be obtained upon request by contacting Michael Migliori.

SUPPLEMENTARY INFORMATION: Section 312 of the Coastal Zone Management Act (CZMA) requires NOAA to conduct periodic evaluations of federally approved coastal management programs. The evaluation process includes holding one or more public meetings, considering public comments, and consulting with interested federal, state, and local agencies and members of the public. During the evaluation, NOAA will consider the extent to which the State of Georgia has met the national objectives, adhered to the management program approved by the Secretary of Commerce, and adhered to the terms of financial assistance under the CZMA. When the evaluation is complete, NOAA's Office for Coastal Management will place a notice in the Federal Register announcing the availability of the final evaluation findings.

Authority: 16 U.S.C. 1458.

Keelin Kuipers,
Acting Director, Office for Coastal Management, National Ocean Service, National Oceanic and Atmospheric Administration.

[FR Doc. 2026-02303 Filed 2-4-26; 8:45 am]

BILLING CODE 3510-08-P